DEPARTMENT OF COMMERCE

National Oceanic and Atmospheric Administration

RIN 0648-XG860

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a pre-assessment workshop to review proposed data and modeling approaches for groundfish stock assessments scheduled for assessment this year. The pre-assessment workshop will be followed by a skates historical catch reconstruction workshop to prepare for assessments of big and longnose skates scheduled for later this year. Both workshops are open to the public. The workshops will also be streamed online via webinar to facilitate remote participation.

DATES: The pre-assessment workshop will be held Monday, March 25, 2019, from 1 p.m. until 5:30 p.m. (Pacific Daylight Time) or when business for the day has been completed. The workshop will reconvene on Tuesday, March 26, beginning at 8:30 a.m. and ending at 5:30 p.m. or when business has been completed. The skate historical catch reconstruction workshop will reconvene on Wednesday, March 27, beginning at 8:30 a.m. and ending at 5:30 p.m. or when business has been completed.

ADDRESSES: The pre-assessment and skates workshop will be held in the large conference room at the Pacific Fishery Management Council office, 7700 NE Ambassador Place, Suite 101, Portland, OR 97220; telephone: (503) 820-2280. Public listening stations will be available at the Pacific Council office, as well as the following locations:

National Marine Fisheries Service, Southwest Fisheries Science Center, Room 188, 110 McAllister Way, Santa Cruz, CA 95060; telephone: (831) 420-3947; and

Oregon Department of Fish and Wildlife, Main Conference Room, 2040 SE Marine Science Drive, Newport, OR 97365; telephone: (541) 867-4741.

The public listening station at the NMFS Southwest Fisheries Science Center in Santa Cruz will only be available for the March 25 and 26 pre-assessment workshop and will not be available for the March 27 skates workshop.

To attend the webinar: Use this link: https://www.gotomeeting.com/webinar and click “Join a Webinar” in the top right corner of the page. Enter the Webinar ID, which is 433-536-835, and your name and email address (required). After logging into the webinar, dial this TOLL number 1+ (213) 929-4232 (not a toll-free number), then enter the Attendee phone audio access code: 596-914-734, then enter your audio phone pin (shown after joining the webinar). Note: We have disabled Mic/Speakers on GoToMeeting as an option and require all participants to use a telephone or cell phone to participate. Technical Information and System Requirements: PC-based attendees are required to use Windows® 10, 8, 7, Vista, or XP; Mac®-based attendees are required to use Mac OS® X 10.5 or newer; Mobile attendees are required to use iPhone®, iPad®, Android™ phone or Android tablet. (See the https://www.gotomeeting.com/webinar/ipad-iphone-android-webinar-apps). You may send an email to Mr. Kris Kleinschmidt at kris.kleinschmidt@noaa.gov or contact him at (503) 820-2280, extension 411 for technical assistance.

Council address: Pacific Fishery Management Council, 7700 NE Ambassador Place, Suite 101, Portland, OR 97220.

FOR FURTHER INFORMATION CONTACT: Mr. John DeVore, Staff Officer, Pacific Council; telephone: (503) 820-2280.

SUPPLEMENTARY INFORMATION: The purpose of the pre-assessment workshop is to review proposed data inputs, modeling approaches, and any other pertinent information for new benchmark stock assessments for big skate, longnose skate, sablefish, gopher/black-and-yellow rockfish, and cowcod. The goal of the pre-assessment workshop is to promote dialogue about and a common understanding between assessment teams and data providers of the best data and analytical and modeling approaches for use in conducting the benchmark groundfish assessments scheduled for 2019. Participants at the pre-assessment workshop will also review proposed revisions to the Pacific Council's Accepted Practices for Groundfish Stock Assessments document to prepare for these 2019 stock assessments. The purpose of the skates catch reconstruction workshop is to reconstruct historical catches of west coast skate species to prepare for the big skate and longnose skate stock assessments later this year. No management actions will be decided by the workshop participants.

Although nonemergency issues not contained in the workshops' agendas may be discussed, those issues may not be the subject of formal action during this workshop. Action will be restricted to those issues specifically listed in this notice and any issues arising after publication of this notice that require emergency action under section 305(c) of the Magnuson-Stevens Fishery Conservation and Management Act, provided the public has been notified of the intent of the workshop participants to take final action to address the emergency.

Visitors who are foreign nationals (defined as a person who is not a citizen or national of the United States) will require additional security clearance to access the NMFS Southwest Fisheries Science Center. Foreign national visitors should contact Ms. Stacey Miller at (541) 867-0535 at least 2 weeks prior to the meeting date to initiate the security clearance process.

Special Accommodations

The workshops are physically accessible to people with disabilities. Requests for sign language interpretation or other auxiliary aids should be directed to Mr. Kris Kleinschmidt at (503) 820-2280 at least 10 days prior to the meeting date.

Dated: March 5, 2019.
Tracey L. Thompson,
Acting Deputy Director, Office of Sustainable Fisheries, National Marine Fisheries Service.

[FR Doc. 2019-04224 Filed 3-7-19; 8:45 am]

BILLING CODE 3510-22-P